DEPARTMENT OF THE INTERIOR

National Park Service

[NPS-WASO-NAGPRA-NPS0030211; PPWOCRADN0-PCU00RP14.R50000]

Notice of Inventory Completion: Gilcrease Museum, Tulsa, OK

AGENCY: National Park Service, Interior.

ACTION: Notice.

SUMMARY: The Gilcrease Museum has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Gilcrease Museum. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Gilcrease Museum at the address in this notice by June 29, 2020.

ADDRESSES: Laura Bryant, Gilcrease Museum, 1400 N Gilcrease Museum Road, Tulsa, OK 74127, telephone (918) 596-2747, email laura-bryant@utulsa.edu.

SUPPLEMENTARY INFORMATION: Notice is here given in accordance with the Native American Graves Protection and Repatriation Act (NAGPRA), 25 U.S.C. 3003, of the completion of an inventory of human remains under the control of the Gilcrease Museum, Tulsa, OK. The human remains were removed from the tribal land of the Osage Nation.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Gilcrease Museum professional staff in consultation with representatives of The Osage Nation (previously listed as Osage Tribe).

History and Description of the Remains

Around 1900, human remains representing, at minimum, three individuals were removed from the tribal land of the Osage Nation. Emil Lenders, a painter and collector, traveled throughout the Plains around the turn of the century, and acquired three scalp locks (accession numbers 86.20a-b, 86.23) during this time. In 1950, Thomas Gilcrease purchased Lenders' collection, including these scalp locks. In 1955, Gilcrease transferred his collection to the City of Tulsa. The three individuals are of unknown age and sex. No known individuals were identified. No associated funerary objects are present.

The scalp locks of these three individuals were determined to be Native American through physical examination and provenance documentation. Lenders' collection notes identify the scalps as Osage, and the fact of their existence is consistent with Osage traditions at the time. Moreover, Lenders clearly had contact with the Osage, based on his travels and the provenience of other items from his collection.

Determinations Made by the Gilcrease Museum

Officials of the Gilcrease Museum have determined that:

• Pursuant to 25 U.S.C. 3001(9), the human remains described in this notice represent the physical remains of three individuals of Native American ancestry.

• Pursuant to 25 U.S.C. 3001(2), there is a relationship of shared group identity that can be reasonably traced between the Native American human remains and The Osage Nation (previously listed as Osage Tribe).

Additional Requestors and Disposition

Lineal descendants or representatives of any Indian Tribe or Native Hawaiian organization not identified in this notice that wish to request transfer of control of these human remains should submit a written request with information in support of the request to Laura Bryant, Gilcrease Museum, 1400 N Gilcrease Museum Road, Tulsa, OK 74127, telephone (918) 596-2747, email laura-bryant@utulsa.edu, by June 29, 2020. After that date, if no additional requestors have come forward, transfer of control of the human remains to The Osage Nation (previously listed as Osage Tribe) may proceed.

The Gilcrease Museum is responsible for notifying The Osage Nation (previously listed as Osage Tribe) that this notice has been published.

Dated: April 20, 2020.
Melanie O'Brien,
Manager, National NAGPRA Program.

[FR Doc. 2020-11562 Filed 5-28-20; 8:45 am]

BILLING CODE 4312-52-P